DEPARTMENT OF THE INTERIOR

Fish and Wildlife Service

[FWS-R8-ES-2020-NXXX; FXES11140800000-201-FF08EVEN00]

Draft Habitat Conservation Plan and Draft Categorical Exclusion for 12 Rancho San Carlos (Ocho West) Project, Monterey County, California

AGENCY: Fish and Wildlife Service, Interior.

ACTION: Notice of availability; request for comments.

SUMMARY: We, the U.S. Fish and Wildlife Service (Service), announce the availability of a draft Habitat Conservation Plan (HCP) and draft categorical exclusion for activities associated with an application for an incidental take permit (ITP) under the Endangered Species Act of 1973, as amended. The ITP would authorize take of listed species incidental to construction of a single-family residence at 12 Rancho San Carlos (Ocho West). The Applicant developed the draft HCP as part of their application for an ITP. The Service prepared a draft categorical exclusion in accordance with the National Environmental Policy Act to evaluate the potential effects to the natural and human environment resulting from issuing an ITP to the Applicant. We invite public comment on these documents.

DATES: Written comments should be received on or before July 20, 2020.

ADDRESSES:

To obtain documents: You may download a copy of the draft HCP and categorical exclusion screening form at http://www.fws.gov/ventura/, or you may request copies of the documents by sending U.S. mail to our Ventura office, or by phone (see FOR FURTHER INFORMATION CONTACT).

To submit written comments: Please send us your written comments using one of the following methods:

• U.S. mail: Send your comments to: Stephen P. Henry, Field Supervisor, Ventura Fish and Wildlife Office, U.S. Fish and Wildlife Service, 2493 Portola Road, Suite B, Ventura, CA 93003.

• Email: danielle_fagre@fws.gov.

FOR FURTHER INFORMATION CONTACT: Danielle Fagre, Biologist, by phone at 805-677-3339, or via the Federal Relay Service at 1-800-877-8339 for TTY assistance.

SUPPLEMENTARY INFORMATION: We, the U.S. Fish and Wildlife Service (Service), announce the availability of a draft Habitat Conservation Plan (HCP) and the associated draft categorical exclusion with an application for an incidental take permit by Andris Upitis (Applicant). The permit would authorize take of the federally threatened Central Distinct Population Segment (DPS) of the California tiger salamander (Ambystoma californiense) and the federally threatened California red-legged frog (Rana draytonii) incidental to activities associated with the construction of a single-family residence at 12 Rancho San Carlos (Ocho West). The Applicant developed the draft HCP as part of his application for an ITP under section 10(a)(1)(B) of the Endangered Species Act of 1973, as amended (ESA; 16 U.S.C. 1531 et seq.). The Service prepared a draft categorical exclusion in accordance with the National Environmental Policy Act of 1969 (NEPA; 42 U.S.C. 4321 et seq.) to evaluate the potential effects to the natural and human environment resulting from issuing an ITP to the Applicant. We invite public comment on these documents.

Background

The Service listed the Central DPS of the California tiger salamander as threatened on August 4, 2004 (69 FR 47212). The Service listed the California red-legged frog as threatened on May 23, 1996 (61 FR 25813), and critical habitat was designated on March 10, 2010 (75 FR 12816). Federal regulation pursuant to section 4(d) of the ESA prohibits the “take” of certain fish or wildlife species listed as threatened, including the Central DPS of the California tiger salamander and the California red-legged frog, with exceptions for certain ranching activities on private and tribal lands as described in 50 CFR 17.43(c)(3)(i)-(xi) and 50 CFR 17.43(d)(3)(i)-(xi). “Take” is defined under the ESA to include the following activities: “[T]o harass, harm, pursue, hunt, shoot, wound, kill, trap, capture, or collect, or to attempt to engage in any such conduct” (16 U.S.C. 1532); however, under section 10(a)(1)(B) of the ESA, we may issue permits to authorize incidental take of listed species. Incidental take is take that is incidental to, and not the purpose of, carrying out of an otherwise lawful activity. Regulations governing incidental take permits for threatened species are in the Code of Federal Regulations (CFR) at 50 CFR 17.32. Issuance of an incidental take permit also must not jeopardize the existence of federally listed fish, wildlife, or plant species. The permittee would receive assurances under our “No Surprises” regulations (50 CFR 17.22(b)(5) and 17.32(b)(5)).

Applicant's Proposed Activities

The Applicant has applied for a permit for incidental take of the Central DPS of the California tiger salamander and California red-legged frog. The potential take would occur in association with activities necessary for the construction of a single-family home and accessory dwelling unit, improvement of the existing driveway, revegetation of temporarily disturbed areas, and invasive species management on 5.9 acres of habitat occupied by the covered species. The development would result in impacts to 7.5 acres of California tiger salamander upland habitat. It would result in impacts to 7.6 acres of California red-legged frog habitat, all of which are in California red-legged frog Critical Habitat Unit MNT-2. The 7.5 acres of California tiger salamander habitat overlaps entirely with the 7.6 acres of California red-legged frog habitat.

The HCP includes avoidance and minimization measures for the covered species and mitigation for unavoidable loss of occupied upland and dispersal habitat. The Applicant will provide mitigation either by securing 5.9 acres of otherwise developable habitat in a conservation easement, protected in perpetuity, or through a Service-approved conservation bank or in-lieu fee program.

Public Comments

If you wish to comment on the permit application, draft HCP, and associated documents, you may submit comments by one of the methods in ADDRESSES.

Before including your address, phone number, email address, or other personal identifying information in your comment, you should be aware that your entire comment, including your personal identifying information, may be made publicly available at any time. While you can ask us in your comment to withhold your personal identifying information from public view, we cannot guarantee that we will be able to do so.

Authority

We provide this notice under section 10 of the ESA (16 U.S.C. 1531 et seq.) and NEPA regulations (40 CFR 1506.6).

Stephen Henry,
Field Supervisor, Ventura Fish and Wildlife Office, Ventura, California.

[FR Doc. 2020-13190 Filed 6-18-20; 8:45 am]

BILLING CODE 4333-15-P